DEPARTMENT OF TRANSPORTATION

Federal Aviation Administration

14 CFR Part 39

[Docket No. 2000-NE-13-AD; Amendment 39-13200; AD 2003-12-15]

RIN 2120-AA64

Airworthiness Directives; Rolls-Royce RB211 Series Turbofan Engines; Correction

AGENCY: Federal Aviation Administration, DOT.

ACTION: Final rule; correction.

SUMMARY: This document makes a correction to Airworthiness Directive (AD) 2003-12-15 that applies to Rolls-Royce (RR) plc RB211-535E4-37, RB211-535E4-B-37, and RB211-535E4-B-75 series turbofan engines that was published in the Federal Register on June 25, 2003. A service bulletin was incorrectly identified by revision number and revision date in the Compliance section, paragraph (a) and the Optional Terminating Action section, paragraph (f). This document corrects these items. In all other respects, the original document remains the same.

EFFECTIVE DATE: Effective June 25, 2003.

FOR FURTHER INFORMATION CONTACT: James Lawrence, Aerospace Engineer, Engine Certification Office, FAA, Engine and Propeller Directorate, 12 New England Executive Park, Burlington, MA 01803-5299; telephone (781) 238-7176; fax (781) 238-7199.

SUPPLEMENTARY INFORMATION: A final rule AD, FR Doc 03-15449, that applies to Rolls-Royce (RR) plc RB211-535E4-37, RB211-535E4-B-37, and RB211-535E4-B-75 series turbofan engines, was published in the Federal Register on June 25, 2003 (68 FR 37735). The following corrections are needed:

§ 39.13 [Corrected]

On page 37736, in the third column, in the Compliance section, paragraph (a), in the third line, “dated August 6, 2002,” is corrected to read “Revision 2, dated September 26, 2002,”.

On page 37738, in the first column, in the Optional Terminating Action section, paragraph (f) in the third line, “Revision 1, dated August 6, 2002,” is corrected to read “Revision 2, dated September 26, 2002,''.

Issued in Burlington, MA, on August 14, 2003.
Marc J. Bouthillier,
Acting Manager, Engine and Propeller Directorate, Aircraft Certification Service.

[FR Doc. 03-21412 Filed 8-20-03; 8:45 am]

BILLING CODE 4910-13-P